NUCLEAR REGULATORY COMMISSION

[Docket No. 50-361 and 50-362]

Southern California Edison Company; Notice of Withdrawal of Biweekly Notice of Consideration of Issuance for Amendments to Facility Operating Licenses

The U.S. Nuclear Regulatory Commission (the Commission) is withdrawing the “Notice of Consideration of Issuance of Amendments to Facility Operating Licenses, Proposed No Significant Hazards Consideration Determination, and Opportunity for a Hearing,” in the Federal Register dated March 28, 2006 ( 71 FR 15485). The proposed amendments were to Facility Operating License No. NPF-10 and NPF-15 for the San Onofre Nuclear Generating Station, Units 2 and 3 (SONGS 2 and 3), located in San Diego County, California.

The licensee requests the NRC consent to the transfer of the City of Anaheim's 3.16 percent undivided ownership interest in SONGS 2 and 3 to Southern California Edison, excluding Anaheim's interest in its spent fuel and the SONGS 2 and 3 independent spent fuel storage installation.

The Commission had issued a “Notice of Consideration of Issuance of Amendment to Facility Operating License, Proposed No Significant Hazards Consideration Determination, and Opportunity for a Hearing,” in the Federal Register dated March 28, 2006 (71 FR 15485). However, since the hearing rights for biweekly notices applicable to license amendments do not apply to license transfers, the NRC staff published a new individual transfer notice in the Federal Register dated June 8, 2006 (71 FR 33321), and the originally published biweekly notice is being hereby withdrawn.

For further details with respect to this action, see the application for amendment dated March 10, 2006, as supplemented by the document dated May 16, 2006. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 28th day of June 2006.
For the Nuclear Regulatory Commission.
Nageswaran Kalyanam,
Project Manager, Plant Licensing Branch IV, Division of Operating Reactor Licensing, Office of Nuclear Reactor Regulation.

[FR Doc. E6-11028 Filed 7-12-06; 8:45 am]

BILLING CODE 7590-01-P